DEPARTMENT OF HEALTH AND HUMAN SERVICES

National Institutes of Health

National Institute of Diabetes and Digestive and Kidney Diseases; Notice of Meeting

Pursuant to section 1009 of the Federal Advisory Committee Act, as amended, notice is hereby given of a meeting of the National Diabetes and Digestive and Kidney Diseases Advisory Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Diabetes and Digestive and Kidney Diseases Advisory Council.

Date: September 11-12, 2024.

Open: September 11, 2024, 8:30 a.m. to 12:00 p.m.

Agenda: Call to order and report from the Director; Discussion of future meeting dates; Consideration of minutes of last meeting; Reports from Task Force on Minority Aging Research, Working Group on Program; Council Speaker; Program Highlights.

Place: National Institutes of Health, Building 31, 31 Center Drive, Bethesda, MD 20892.

Open: September 11, 2024, 1:00 p.m. to 1:30 p.m.

Agenda: KUH Open session.

Place: National Institutes of Health, Building 31, C Wing 6th Floor Conf. Room B (KUH), 31 Center Drive, Bethesda, MD 20892.

Open: September 11, 2024, 1:00 p.m. to 2:30 p.m.

Agenda: DEM Open Session.

Place: National Institutes of Health, Building 31, C Wing 6th Floor Conf. Room F&G (DEM), 31 Center Drive, Bethesda, MD 20892.

Open: September 11, 2024, 1:00 p.m. to 2:30 p.m.

Agenda: DDN Open session.

Place: National Institutes of Health, Building 31, C Wing 6th Floor Conf. Room A (DDN), 31 Center Drive, Bethesda, MD 20892.

Closed: September 11, 2024, 2:30 p.m. to 3:30 p.m.

Agenda: To review and evaluate grant applications.

Place: National Institutes of Health, Building 31, C Wing 6th Floor Conf. Room B (KUH), 31 Center Drive, Bethesda, MD 20892.

Closed: September 11, 2024, 2:30 p.m. to 3:30 p.m.

Agenda: To review and evaluate grant applications.

Place: National Institutes of Health, Building 31, C Wing 6th Floor Conf. Room A (DDN), 31 Center Drive, Bethesda, MD 20892.

Closed: September 11, 2024, 2:30 p.m. to 3:30 p.m.

Agenda: To review and evaluate grant applications.

Place: National Institutes of Health, Building 31, C Wing 6th Floor Conf. Room F&G (DEM), 31 Center Drive, Bethesda, MD 20892.

Closed: September 11, 2024, 3:45 p.m. to 4:00 p.m.

Agenda: To review and evaluate reports of Subcommittees and Consideration of Applications.

Place: National Institutes of Health, Building 31, C Wing 6th Floor Conference Room, 31 Center Drive, Bethesda, MD 20892.

Contact Person: Karl F. Malik, Ph.D., Director, Division of Extramural Activities, National Institutes of Diabetes and Digestive and Kidney Diseases, 6707 Democracy Blvd., Room 7329, MSC 5452, Bethesda, MD 20892, (301) 594-4757, malikk@niddk.nih.gov.

Information is also available on the Institute's/Center's home page: www.niddk.nih.gov/fund/divisions/DEA/Council/coundesc.htm., where an agenda and any additional information for the meeting will be posted when available.

(Catalogue of Federal Domestic Assistance Program Nos. 93.847, Diabetes, Endocrinology and Metabolic Research; 93.848, Digestive Diseases and Nutrition Research; 93.849, Kidney Diseases, Urology and Hematology Research, National Institutes of Health, HHS)

Dated: October 27, 2023.
Miguelina Perez,
Program Analyst, Office of Federal Advisory Committee Policy.

[FR Doc. 2023-24138 Filed 11-1-23; 8:45 am]

BILLING CODE 4140-01-P